DEPARTMENT OF EDUCATION

State Educational Agency and Local Educational Agency—School Data Collection and Reporting Under ESEA, Title I, Part A; ED-2017-ICCD-0130; Correction

AGENCY: Department of Education.

ACTION: Correction notice.

SUMMARY: On October 26, 2017, the U.S. Department of Education published a 60-day comment period notice in the Federal Register (Page 49602, Column 1; FR DOC #2017-23222) seeking public comment for an information collection entitled, “State Educational Agency and Local Educational Agency—School Data Collection and Reporting Under ESEA, Title I, Part A”. The abstract was incorrect, and is corrected as follows:

Although the U.S. Department of Education (ED) determines Title I, Part A allocations for Local Educational Agencies (LEAs), the Elementary and Secondary Education Act, as amended by the Every Student Succeeds Act, requires State Educational Agencies (SEAs) to adjust ED-determined Title I, Part A LEA allocations to account for newly created LEAs and LEA boundary changes, to redistribute Title I, Part A funds to small LEAs (under 20,000 total population) using alternative poverty data (if an SEA has ED's approval to do so), and to reserve funds for school improvement, State administration, and, if applicable, Direct Student Services. This control number covers only the burden associated with the actual procedures an SEA must follow when adjusting ED-determined LEA allocations.

The Acting Director, Information Collection Clearance Division, Office of the Chief Privacy Officer, Office of Management, hereby issues a correction notice as required by the Paperwork Reduction Act of 1995.

Dated: October 26, 2017.
Tomakie Washington,
Acting Director, Information Collection Clearance Division, Office of the Chief Privacy Officer, Office of Management.

[FR Doc. 2017-23710 Filed 10-31-17; 8:45 am]

BILLING CODE 4000-01-P